DEPARTMENT OF ENERGY

Federal Energy Regulatory Commission

[Docket Nos. ER00-1969-000; EL00-57-000; EL00-60-000; EL00-63-000; EL00-64-000 (not consolidated)]

New York Independent System Operator, Inc., Niagara Mohawk Power Corp. v. New York Independent System Operator, Inc.; Orion Power New York GP, Inc. v. New York Independent System Operator; Inc.; New York State Electric & Gas Corporation v. New York Independent System Operator, Inc.; Rochester Gas and Electric Corporation v. New York Independent System Operator, Inc.; Notice of Filing

July 18, 2000.

Take notice that on June 30, 2000, New York Independent System Operator, Inc. (NYISO) filed its preliminary compliance filing describing its plans for implementing a permanent solution to the problems in its 10-minute reserve markets. The May 31 order requires the NYISO to file its proposed permanent solution no later than September 1, 2000, to be effective November 1, 2000.

Any person desiring to be heard or to protest such filing should file a motion to intervene or protest with the Federal Energy Regulatory Commission, 888 First Street, NE, Washington, DC 20426, in accordance with rules 211 and 214 of the Commission's Rules of practice and procedure (18 CFR 385.211 and 385.214). All such motions and protests should be filed on or before August 1, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-18588 Filed 7-21-00; 8:45 am]

BILLING CODE 6717-01-M